DEPARTMENT OF THE INTERIOR

National Park Service

[2253-665]

Notice of Intent To Repatriate Cultural Items: University of Denver Department of Anthropology and Museum of Anthropology, Denver, CO

AGENCY: National Park Service, Interior.

ACTION: Notice.

SUMMARY: The University of Denver Department of Anthropology and Museum of Anthropology, in consultation with the appropriate Indian tribes, has determined that the cultural items meet the definition of sacred objects and repatriation to the Indian tribe stated below may occur if no additional claimants come forward. Representatives of any Indian tribe that believes itself to be culturally affiliated with the cultural items may contact the University of Denver Department of Anthropology and Museum of Anthropology.

DATES: Representatives of any Indian tribe that believes it has a cultural affiliation with the cultural items should contact the University of Denver Department of Anthropology and Museum of Anthropology at the address below by March 7, 2012.

ADDRESSES: Anne Coats Amati, NAGPRA Coordinator/Registrar, University of Denver Department of Anthropology and Museum of Anthropology, 2000 E Asbury, Sturm 146, Denver, CO 80208, telephone (303) 871-2687.

SUPPLEMENTARY INFORMATION: Notice is here given in accordance with the Native American Graves Protection and Repatriation Act (NAGPRA), 25 U.S.C. 3005, of the intent to repatriate cultural items in the possession of the University of Denver Department of Anthropology and Museum of Anthropology (DUMA), that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In consultation with representatives of the Santa Rosa Indian Community of the Santa Rosa Rancheria, California (Tachi Yokut Tribe), the four baskets in this notice (1638 A-B, 1640, 1655, 3789) are determined to be sacred objects.

Between 1951 and 1952, a lidded basket in the collection of Mrs. Charles S. Sprague, was accessioned into DUMA. The treasure basket (1638 A-B) is a finely woven, small, lidded basket that features a diamond design in a brown-red color. Remnants of a leather loop are present on the lid. The diamond design on the treasure basket has been identified as a snake design that represents the gopher or king snake.

Between 1951 and 1952, a basket in the collection of Mrs. Charles S. Sprague, was accessioned into DUMA. The hat basket or small offering basket (1640) is a small, finely woven, coiled basket with steeply slanted sides and a stepped red-brown design that symbolizes the four stages of life.

Between 1951 and 1952, a basket in the collection of Mrs. Charles S. Sprague, was accessioned into DUMA. The hat basket (1655) has steeply slanted sides and is constructed from single-rod coils. It is colored dark brown, red-brown and a natural fiber color. The basket has a band one coil wide in red-brown near the rim and a similar band at the edge of the base. The lightning design, five radiating lines that form stepped parallelograms in dark brown, associate the basket with the “Rain Ceremony” worn by female “Rain Doctors.” The basket was also worn as ceremonial regalia by young girls in the “Coming of Age Ceremony.”

In 1969, Kate Peck Kent donated a bowl-shaped, single-rod, coiled basket (3789) to DUMA. The decoration features two bands of three coils each in dark brown around the shoulder. The rest of the basket is a variegated natural fiber color. Parts of three coils approximately 3.0 cm from the base are broken but have been stabilized. The basket was identified as a Ceremonial Cooking basket used on such occasions as the “Spring Ceremony” for the preparation of acorn. It was identified as being made by two different weavers, from the Tubatalatal and Lake Isabella areas.

Determinations Made by the University of Denver Department of Anthropology and Museum of Anthropology

Officials of DUMA have determined that:

• Pursuant to 25 U.S.C. 3001(3)(C), the four cultural items described above are specific ceremonial objects needed by traditional Native American religious leaders for the practice of traditional Native American religions by their present-day adherents.

• Pursuant to 25 U.S.C. 3001(2), there is a relationship of shared group identity that can be reasonably traced between the sacred objects and the Santa Rosa Indian Community of the Santa Rosa Rancheria, California (Tachi Yokut Tribe).

Additional Requestors and Disposition

Representatives of any other Indian tribe that believes itself to be culturally affiliated with the sacred objects should contact Anne Coats Amati, University of Denver Department of Anthropology and Museum of Anthropology, 2000 E Asbury Ave, Sturm 146, Denver, CO 80208, telephone (303) 871-2687, before March 7, 2012. Repatriation of the sacred objects to the Santa Rosa Indian Community of the Santa Rosa Rancheria, California (Tachi Yokut Tribe) may proceed after that date if no additional claimants come forward.

DUMA is responsible for notifying the Berry Creek Rancheria of Maidu Indians of California; Buena Vista Rancheria of Me-Wuk Indians of California; California Valley Miwok Tribe, California; Cedarville Rancheria, California; Cher-Ae Heights Indian Community of the Trinidad Rancheria, California; Chicken Ranch Rancheria of Me-Wuk Indians of California; Enterprise Rancheria of Maidu Indians of California; Federated Indians of Graton Rancheria, California; Fort McDermitt Paiute and Shoshone Tribes of the Fort McDermitt Indian Reservation, Nevada and Oregon; Greenville Rancheria of Maidu Indians of California; Ione Band of Miwok Indians of California; Jackson Rancheria of Me-Wuk Indians of California; Mechoopda Indian Tribe of Chico Rancheria, California; Mooretown Rancheria of Maidu Indians of California; Paiute-Shoshone Tribe of the Fallon Reservation and Colony, Nevada; Pyramid Lake Paiute Tribe of the Pyramid Lake Reservation, Nevada; Reno-Sparks Indian Colony, Nevada; Santa Rosa Indian Community of the Santa Rosa Rancheria, California (Tachi Yokut Tribe); Shingle Springs Band of Miwok Indians, Shingle Springs Rancheria (Verona Tract), California; Shoshone-Paiute Tribes of the Duck Valley Reservation, Nevada; Susanville Indian Rancheria, California; Tuolumne Band of Me-Wuk Indians of the Tuolumne Rancheria of California; United Auburn Indian Community of the Auburn Rancheria of California; Walker River Paiute Tribe of the Walker River Reservation, Nevada; Winnemucca Indian Colony of Nevada; and Yerington Paiute Tribe of the Yerington Colony & Campbell Ranch, Nevada that this notice has been published.

Dated: January 31, 2012.
Sherry Hutt,
Manager, National NAGPRA Program.

[FR Doc. 2012-2526 Filed 2-3-12; 8:45 am]

BILLING CODE 4312-50-P